DEPARTMENT OF THE INTERIOR

National Park Service

[NPS-WASO-NAGPRA-10796; 2200-1100-665]

Notice of Inventory Completion: U.S. Department of the Interior, Bureau of Indian Affairs, Washington, DC, and the Logan Museum of Anthropology, Beloit College, Beloit, WI

AGENCY: National Park Service, Interior.

ACTION: Notice.

SUMMARY: The U.S. Department of the Interior, Bureau of Indian Affairs, and the Logan Museum of Anthropology, Beloit College, have completed an inventory of human remains, in consultation with the appropriate Indian tribes, and have determined that there is a cultural affiliation between the human remains and present-day Indian tribes. Representatives of any Indian tribe that believes itself to be culturally affiliated with the human remains may contact the U.S. Department of the Interior, Bureau of Indian Affairs. Repatriation of the human remains to the Indian tribes stated below may occur if no additional claimants come forward.

DATES: Representatives of any Indian tribe that believes it has a cultural affiliation with the human remains should contact the U.S. Department of the Interior, Bureau of Indian Affairs at the address below by September 4, 2012.

ADDRESSES: Anna Pardo, Museum Program Manager/NAGPRA Coordinator, U.S. Department of the Interior, Indian Affairs, 12220 Sunrise Valley Drive, Room 6084, Reston, VA 20191, telephone (703) 390-6343.

SUPPLEMENTARY INFORMATION: Notice is here given in accordance with the Native American Graves Protection and Repatriation Act (NAGPRA), 25 U.S.C. 3003, of the completion of an inventory of human remains under the control of the U.S. Department of the Interior, Bureau of Indian Affairs, Washington, DC, and in the physical custody of the Logan Museum of Anthropology, Beloit College, Beloit, WI. The human remains were removed from the Old Kenel townsite, on the Standing Rock Indian Reservation, in Corson County, SD.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Logan Museum of Anthropology professional staff in consultation with representatives of the Standing Rock Sioux Tribe of North & South Dakota and the Three Affiliated Tribes of the Fort Berthold Reservation, North Dakota.

History and Description of the Remains

At an unknown date prior to 1979, human remains representing, at minimum, one individual were removed by an unknown collector from the Old Kenel townsite on the Standing Rock Indian Reservation in Corson County, SD. No details are available on the precise site location or collecting methods. The Old Kenel townsite was a historic community of the Standing Rock Sioux Tribe, which was flooded after construction of Oahe Dam. This townsite was located on the site of a prehistoric Indian village that dates to the period of the Extended Middle Missouri variant of the Plains Village pattern. The human remains could be associated with either the historic or prehistoric settlement. The remains had been catalogued as Arikara, but there is no apparent basis for this designation. No known individuals were identified. No associated funerary objects are present.

The human remains are determined to be Native American on the basis of the red pigment applied to the remains. If the remains are from the Extended Middle Missouri variant, they are culturally affiliated to Mandan descendants, the Three Affiliated Tribes of the Fort Berthold Reservation, North Dakota. If the remains are Arikara, as the likely erroneous catalogue and ledger records state, they are culturally affiliated with the Three Affiliated Tribes of the Fort Berthold Reservation, North Dakota. If the remains are associated with the historic Lakota Sioux community of Old Kenel, they are culturally affiliated with the Standing Rock Sioux Tribe of North & South Dakota, on whose reservation the site is located. Because the human remains could be associated with either the historic or prehistoric settlement, cultural affiliation is determined to be to both of the tribes.

Determinations Made by the U.S. Department of the Interior, Bureau of Indian Affairs, Washington, DC, and the Logan Museum of Anthropology, Beloit College, Beloit, WI

Officials of the Bureau of Indian Affairs and the Logan Museum of Anthropology have determined that:

• Pursuant to 25 U.S.C. 3001(9), the human remains described in this notice represent the physical remains of one individual of Native American ancestry.

• Pursuant to 25 U.S.C. 3001(2), there is a relationship of shared group identity that can be reasonably traced between the Native American human remains and the Standing Rock Sioux Tribe of North & South Dakota and the Three Affiliated Tribes of the Fort Berthold Reservation, North Dakota.

Additional Requestors and Disposition

Representatives of any Indian tribe that believes itself to be culturally affiliated with the human remains should contact Anna Pardo, Museum Program Manager/NAGPRA Coordinator, U.S. Department of the Interior, Indian Affairs, 12220 Sunrise Valley Drive, Room 6084, Reston, VA 20191, telephone (703) 390-6343, before September 4, 2012. Repatriation of the human remains to the Standing Rock Sioux Tribe of North & South Dakota and the Three Affiliated Tribes of the Fort Berthold Reservation, North Dakota, may proceed after that date if no additional claimants come forward.

The Bureau of Indian Affairs is responsible for notifying the Standing Rock Sioux Tribe of North & South Dakota and the Three Affiliated Tribes of the Fort Berthold Reservation, North Dakota, that this notice has been published.

Dated: July 9, 2012.
David Tarler,
Acting Manager, National NAGPRA Program.

[FR Doc. 2012-18953 Filed 8-1-12; 8:45 am]

BILLING CODE 4312-50-P